DEPARTMENT OF TRANSPORTATION

Federal Motor Carrier Safety Administration

[Docket No. FMCSA-2015-0345]

Qualification of Drivers; Exemption Applications; Vision

AGENCY: Federal Motor Carrier Safety Administration (FMCSA), DOT.

ACTION: Notice of applications for exemptions; request for comments.

SUMMARY: FMCSA announces receipt of applications from 19 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before January 20, 2016. All comments will be investigated by FMCSA. The exemptions will be issued the day after the comment period closes.

ADDRESSES: You may submit comments bearing the Federal Docket Management System (FDMS) Docket No. FMCSA-2015-0345 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 19 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Raed A. Abdelrahim

Mr. Abdelrahim, 48, has a phthisis left eye due to a traumatic incident in childhood. The visual acuity in his right eye is 20/20, and in his left eye, no light perception. Following an examination in 2015, his optometrist stated, “His Right [sic] eye vision without correction is 20/20 and his field of view is full to 120 degrees. Based on these findings I feel he has sufficient vision to operate a commercial vehicle.” Mr. Abdelrahim reported that he has driven straight trucks for 4 years, accumulating 300,000 miles, tractor-trailer combinations for 1 year, accumulating 50,000 miles. He holds a Class A CDL from New Hampshire. His driving record for the last 3 years shows no crashes and one conviction for a moving violation in a CMV; he failed to obey a traffic signal.

Dominic A. Berube

Mr. Berube, 53, has had a central serous chorioretinopathy in his right eye since 2005. The visual acuity in his right eye is 20/100, and in his left eye, 20/15. Following an examination in 2015, his ophthalmologist stated, “I [sic] my medical opinion, Mr. Berube has sufficient vision to perform the driving tasks required to operate a commercial vehicle.” Mr. Berube reported that he has driven straight trucks for 20 years, accumulating 260,000 miles. He holds a Class A CDL from Massachusetts. His driving record for the last 3 years shows no crashes and no convictions for moving violations in a CMV.

Gary L. Best

Mr. Best, 66, has had amblyopia in his right eye since childhood. The visual acuity in his right eye is 20/100, and in his left eye, 20/20. Following an examination in 2015, his ophthalmologist stated, “No medicalvisual [sic] contraindications to operating a commercial vehicle.” Mr. Best reported that he has driven straight trucks for 11 years, accumulating 330,000 miles. He holds a Class CA CDL from Michigan. His driving record for the last 3 years shows no crashes and no convictions for moving violations in a CMV.

Therron K. Billings

Mr. Billings, 49, has had amblyopia in his left eye since childhood. The visual acuity in his right eye is 20/15, and in his left eye, counting fingers. Following an examination in 2015, his optometrist stated, “I feel that Mr. Billings sees very well with his right eye and his visual field is full with minimal restrictions and his reduced vision in his left eye should not affect his ability to perform his job . . . Based on the requirements you have listed, he has sufficient vision to operate a commercial vehicle.” Mr. Billings reported that he has driven straight trucks for 5 years, accumulating 57,500 miles. He holds a Class M operator's license from Virginia. His driving record for the last 3 years shows no crashes and no convictions for moving violations in a CMV.

Lucien A. Fregeau

Mr. Fregeau, 68, has had refractive amblyopia in his right eye since birth. The visual acuity in his right eye is 20/60, and in his left eye, 20/30. Following an examination in 2015, his ophthalmologist stated, “OD: Vision 20/60, OS: Vision 20/30, based on this history . . . my judgement is that he can drive this commercial vehicle.” Mr. Fregeau reported that he has driven straight trucks for 20 years, accumulating 500,000 miles. He holds a Class D operator's license from Connecticut. His driving record for the last 3 years shows no crashes and no convictions for moving violations in a CMV.

Michael A. Gibbons

Mr. Gibbons, 62, has had optic neuropathy in his right eye since 2011. The visual acuity in his right eye is 20/50, and in his left eye, 20/20. Following an examination in 2015, his ophthalmologist stated, “In my opinion, Michael has a sufficient [sic] when tested, as well as vision overall, to continue his driving of commercial vehicles.” Mr. Gibbons reported that he has driven straight trucks for 26 years, accumulating 390,000 miles and tractor-trailer combinations for 26 years, accumulating 390,000 miles. He holds a Class AM CDL license from Pennsylvania. His driving record for the last 3 years shows no crashes and no convictions for moving violations in a CMV.

Fred M. Hill, Jr.

Mr. Hill, 71, has a prosthetic left eye due to a traumatic incident in childhood. The visual acuity in his right eye is 20/40, and in his left eye, no light perception. Following an examination in 2015, his ophthalmologist stated, “Mr. Hill has had only one eye since the age of 12 . . . I expect Mr. Hill to continue to drive well and have no reason to believe he will not continue to drive his commercial truck well.” Mr. Hill reported that he has driven straight trucks for 8 years, accumulating 80,000 miles. He holds an operator's license from Louisiana. His driving record for the last 3 years shows no crashes and no convictions for moving violations in a CMV.

Freddie H. Johnson

Mr. Johnson, 42, has a prosthetic right eye due to a traumatic incident in childhood. The visual acuity in his right eye is no light perception, and in his left eye, 20/20. Following an examination in 2015, his optometrist stated, “It is my medical opinion that Freddie Johnson has sufficient vision to perform the driving tasks required to operate a commercial vehicle.” Mr. Johnson reported that he has driven straight trucks for 3 years, accumulating 322,500 miles. He holds an operator's license from Idaho. His driving record for the last 3 years shows no crashes and no convictions for moving violations in a CMV.

Timothy C. Kohn

Mr. Kohn, 34, has complete loss of vision in his right eye due to a traumatic incident in childhood. The visual acuity in his right eye is no light perception, and in his left eye, 20/15. Following an examination in 201X, his optometrist stated, “Mr. Kohn has sufficient vision to perform the driving tasks required to operate a commercial vehicle.” Mr. Kohn reported that he has driven straight trucks for 12 years, accumulating 6,000 miles, and tractor-trailer combinations for 4 years, accumulating 18,000 miles. He holds an operator's license from Missouri. His driving record for the last 3 years shows no crashes and no convictions for moving violations in a CMV.

John D. Morgan

Mr. Morgan, 44, has central vision loss in his right eye due to a traumatic incident in 1996. The visual acuity in his right eye is 20/150, and in his left eye, 20/25. Following an examination in 2015, his optometrist stated, “I feel that Mr. Morgan meets the monocular criteria to perform the driving tasks required to operate a commercial vehicle with his left eye only.” Mr. Morgan reported that he has driven straight trucks for 19 years, accumulating 95,760 miles and tractor-trailer combinations for 19 years, accumulating 205,200 miles. He holds a Class A CDL from Pennsylvania. His driving record for the last 3 years shows no crashes and no convictions for moving violations in a CMV.

Brian M. Olivas

Mr. Olivas, 26, has had amblyopia in his right eye since childhood. The visual acuity in his right eye is 20/70, and in his left eye, 20/20. Following an examination in 2015, his optometrist stated, “In my professional opinion he has sufficient vision to perform the task of driving a commercial vehicle.” Mr. Olivas reported that he has driven straight trucks for 3 years, accumulating 180,000 miles. He holds a Class B CDL from Texas. His driving record for the last 3 years shows no crashes and no convictions for moving violations in a CMV.

Douglas Pitts

Mr. Pitts, 54, has complete loss of vision in his left eye due to a traumatic incident in 2001. The visual acuity in his right eye is 20/20, and in his left eye, no light perception. Following an examination in 2015, his optometrist stated, “Considering that his visual defiency [sic] has been stable for 14 years, it is my medical opinion that Douglas Pitts has sufficient vision to operate a commercial vehicle.” Mr. Pitts reported that he has driven straight trucks for 6 years, accumulating 450,000 miles and tractor-trailer combinations for 30 years, accumulating 1.5 million miles. He holds a Class A CDL license from Ohio. His driving record for the last 3 years shows no crashes one conviction for a moving violation in a CMV; he exceeded the speed limit by 13 mph.

Jesus R. Ponce

Mr. Ponce, 50, has complete loss of vision in his right eye due to a traumatic incident in 1982. The visual acuity in his right eye is no light perception, and in his left eye, 20/20. Following an examination in 2015, his ophthalmologist stated, “I believe that Mr. Ponce has sufficient vision in his left eye in order to perform the driving tasks required to operate a commercial vehicle.” Mr. Ponce reported that he has driven straight trucks for 10 years, accumulating 230,880 miles and buses for 10 years, accumulating 230,880 miles. He holds a Class B CDL from New York. His driving record for the last 3 years shows no crashes and no convictions for moving violations in a CMV.

Eddie R. Schaef

Mr. Schaef, 67, has had pseudophakia in his left eye since 2011. The visual acuity in his right eye is 20/30, and in his left eye, 20/50. Following an examination in 2015, his optometrist stated, “In my medical opinion, Mr. Schaef has sufficient vision to perform the driving tasks required to operate a commercial vehicle.” Mr. Schaef reported that he has driven straight trucks for 10 years, accumulating 500,000 miles. He holds an operator's license from Texas. His driving record for the last 3 years shows no crashes and no convictions for moving violations in a CMV.

Brian J. Stoltie

Mr. Stoltie, 35, has had refractive amblyopia in his right eye since childhood. The visual acuity in his right eye is 20/100, and in his left eye, 20/20. Following an examination in 2015, his optometrist stated, “Mr. Stoltie does have sufficient vision uncorrected to operate a commercial vehicle, however a contact lens in the right eye is recommended to maximize his visual acuity.” Mr. Stoltie reported that he has driven straight trucks for 15 years, accumulating 1 million miles. He holds a Class D operator's license from South Carolina. His driving record for the last 3 years shows no crashes and no convictions for moving violations in a CMV.

Terry A. Strong

Mr. Strong, 69, has had partial optic atrophy in his left eye since 1985. The visual acuity in his right eye is 20/25, and in his left eye, 20/400. Following an examination in 2015, his optometrist stated, “I have examined Mr. Strong and find that he has sufficient vision, field of view, and experience to safely preform driving tasks required to operate a commercial vehicle.” Mr. Strong reported that he has driven straight trucks for 48 years, accumulating 1.68 million miles and tractor-trailer combinations for 15 years, accumulating 75,000 miles. He holds an operator's license from California. His driving record for the last 3 years shows no crashes and no convictions for moving violations in a CMV.

Michael A. Terry

Mr. Terry, 58, has had a retinal detachment in his right eye since 2007. The visual acuity in his right eye is light perception, and in his left eye, 20/15. Following an examination in 2015, his optometrist stated, “In my medical opinion, Michael has sufficient vision to perform the visual tasks required to operate a commercial vehicle.” Mr. Terry reported that he has driven tractor-trailer combinations for 30 years, accumulating 2.55 million miles. He holds a Class A CDL from Indiana. His driving record for the last 3 years shows no crashes and no convictions for moving violations in a CMV.

Russell A. Wilkinson

Mr. Wilkinson, 60, has optic atrophy in his left eye due to a traumatic incident in 1974. The visual acuity in his right eye is 20/25, and in his left eye, 20/400. Following an examination in 2015, his ophthalmologist stated, “Overall, his level of vision should enable him to safely drive a commercial vehicle.” Mr. Wilkinson reported that he has driven straight trucks for 38 years, accumulating 570,000 miles and tractor-trailer combinations for 38 years, accumulating 1.9 million miles. He holds a Class A CDL from Florida. His driving record for the last 3 years shows no crashes and no convictions for moving violations in a CMV.

Timothy W. Youngblood, Jr.

Mr. Youngblood, 39, has had complete loss of vision in his left eye since birth. The visual acuity in his right eye is 20/15, and in his left eye, hand motion. Following an examination in 2015, his optometrist stated, “It is my opinion that Mr. Youngblood has sufficient vision to perform the driving tasks required to operate a commercial vehicle.” Mr. Youngblood reported that he has driven straight trucks for 9 years, accumulating 450,000 miles and tractor-trailer combinations for 9 years, accumulating 450,000 miles. He holds a Class AM CDL from Texas. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0345 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0345 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: December 9, 2015.
Larry W. Minor,
Associate Administrator for Policy.

[FR Doc. 2015-31977 Filed 12-18-15; 8:45 am]

BILLING CODE 4910-EX-P